FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 020018NF.

Name: D & F Holdings Dba Dfhu Worldwide Shipping.

Address: 12511 Crenshaw Blvd., Hawthorne, CA 90250.

Date Revoked: November 15, 2007.

Reason: Failed To Maintain Valid Bonds.

License Number: 001665F.

Name: Debsar Corporation.

Address: 2145 Edge Hill Road, Huntingdon Valley, PA 19006.

Date Revoked: November 14, 2007.

Reason: Failed To Maintain a Valid Bond.

License Number: 003458F.

Name: Dependable International Services & Transport, Inc.

Address: 243 W. Causeway Approach, Mandeville, LA 70448.

Date Revoked: November 14, 2007.

Reason: Surrendered License Voluntarily.

License Number: 017931N.

Name: Houston Syrius USA, Inc. Dba Syrius USA, Inc.

Address: 3027 Marina Drive, Suite 107, League City, TX 77573.

Date Revoked: November 10, 2007.

Reason: Failed To Maintain a Valid Bond.

License Number: 018614F.

Name: Jack Chiang Dba Continental Resource Company.

Address: 2639 East Avenue, Hayward, CA 94541.

Date Revoked: November 14, 2007.

Reason: Failed To Maintain a Valid Bond.

Sandra L. Kusumoto,
Director, Bureau of Certification and Licensing.

[FR Doc. E7-23597 Filed 12-4-07; 8:45 am]

BILLING CODE 6730-01-P